CORPORATION FOR NATIONAL AND COMMUNITY SERVICE

Proposed Information Collection; OMB Emergency Approval Request

AGENCY: Corporation for National and Community Service.

ACTION: Request for emergency approval.

SUMMARY: The Corporation for National and Community Service (hereinafter the “Corporation”), has submitted three information collection requests (ICR) utilizing emergency review procedures, to the Office of Management and Budget (OMB) for review and clearance in accordance with the Paperwork Reduction Act of 1995 (Pub. L. 104-13, 44 U.S.C. chapter 35). The Corporation requests that OMB review and approve its three emergency requests by March 16, 2004, for a period of six (6) months. A copy of this ICRs, with applicable supporting documentation, may be obtained by contacting the Corporation for National and Community Service, Attn: Ms. Shannon Maynard, at (202) 606-5000, ext. 428, or by e-mail at smaynard@cns.gov.

Currently, the Corporation is soliciting emergency approval concerning the Spirit of Service Award nomination guidelines for Senior Corps, AmeriCorps, and Learn and Serve America.

Part I

Type of Review: Emergency.

Agency: Corporation for National and Community Service.

Title: Spirit of Service Awards Nomination Guidelines and Application—Senior Corps.

OMB Number: None.

Agency Number: None.

Affected Public: Individuals or households, not-for-profit institutions, and State, local or tribal government.

Total Respondents: 200.

Frequency: One time.

Average Time Per Response: 3 hours.

Estimated Total Burden Hours: 600 hours.

Total Burden Cost (Capital/Startup): $9,900.

Total Burden Cost (Operating/Maintenance): $0.

Part II

Type of Review: Emergency.

Agency: Corporation for National and Community Service.

Title: Spirit of Service Awards Nomination Guidelines and Application—AmeriCorps.

OMB Number: None.

Agency Number: None.

Affected Public: Individuals or households, not-for-profit institutions, and State, local or tribal government.

Total Respondents: 200.

Frequency: One time.

Average Time Per Response: 3 hours.

Estimated Total Burden Hours: 600 hours.

Total Burden Cost (Capital/Startup): $9,900.

Total Burden Cost (Operating/Maintenance): $0.

Part III

Type of Review: Emergency.

Agency: Corporation for National and Community Service.

Title: Spirit of Service Awards Nomination Guidelines and Application—Learn and Serve America.

OMB Number: None.

Agency Number: None.

Affected Public: Individuals or households, not-for-profit institutions, and State, local or tribal government.

Total Respondents: 200.

Frequency: One time.

Average Time Per Response: 3 hours.

Estimated Total Burden Hours: 600 hours.

Total Burden Cost (Capital/Startup): $9,900.

Total Burden Cost (Operating/Maintenance): $0.

Description: The Spirit of Service Awards enable the Corporation to recognize exceptional organizations and program participants from each of the Corporation's three programs, Senior Corps, AmeriCorps, and Learn and Serve America. For 2004, the Corporation plans to establish specific nomination guidelines for each of the programs and develop a formal nomination process, which involves voluntary information collection from non-government individuals.

Prior to 2003, AmeriCorps recognized its outstanding members annually through the All-AmeriCorps Awards, which were initiated in 1999 and presented by President Clinton as part of the 5th anniversary celebration of the program. Senior Corps had recognized its outstanding projects and volunteers at its own national conference, and Learn and Serve America recognized exemplary programs and participants through its Leaders School selection and the President's Student Service Awards.

The Corporation hereby submits its request for emergency review and approval by OMB of the Spirit of Service Awards nomination for its three programs. The goal is to implement the nomination process in time to present the Spirit of Service Award winners at the Corporation's 2004 National Conference on Community Volunteering and National Service, June 6-8, 2004, in Kansas City, Missouri. The Corporation has requested emergency status for six (6) months to enable it to proceed with this year's awards process in a timely manner. Because the conference is scheduled to take place in June 2004, there was not enough time for an initial public comment period prior to submitting this request to OMB. However, if OMB approves this emergency request, the Corporation will issue another notice that will afford the public 60-days to provide its comments.

Dated: March 5, 2004.
Sandy Scott,
Acting Director, Office of Public Affairs.

[FR Doc. 04-5490 Filed 3-10-04; 8:45 am]

BILLING CODE 6050-$$-P